DEPARTMENT OF TRANSPORTATION

Federal Aviation Administration

14 CFR Part 39

[Docket No. 99-NM-185-AD; Amendment 39-11648; AD 2000-06-08]

RIN 2120-AA64

Airworthiness Directives; Airbus Model A330 and A340 Series Airplanes

AGENCY: Federal Aviation Administration, DOT.

ACTION: Final rule.

SUMMARY: This amendment supersedes an existing airworthiness directive (AD), applicable to certain Airbus Model A330 and A340 series airplanes, that currently requires repetitive operational tests of the override mechanism of the trimmable horizontal stabilizer (THS) to determine if the system functions correctly; and corrective action, if necessary. This amendment requires replacement of existing flight control primary computers (FCPC) with improved FCPC's, which would terminate the repetitive operational tests. This amendment is prompted by the issuance of mandatory continuing airworthiness information by a foreign civil airworthiness authority. The actions specified by this AD are intended to prevent uncommanded movement of the THS, which could result in reduced controllability of the airplane.

DATES: Effective May 4, 2000.

The incorporation by reference of Airbus Service Bulletin A330-27-3056, Revision 01, dated May 5, 1998; and Airbus Service Bulletin A340-27-4061, Revision 02, dated May 5, 1998; as listed in the regulations, is approved by the Director of the Federal Register as of May 4, 2000.

The incorporation by reference of Airbus Service Bulletin A330-27-3051, dated February 13, 1997; and Airbus Service Bulletin A340-27-4058, dated February 13, 1997; as listed in the regulations, was approved previously by the Director of the Federal Register as of January 28, 1998 (63 FR 1909, January 13, 1998).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 98-01-15, amendment 39-10277 (63 FR 1909, January 13, 1998), which is applicable to certain Airbus Model A330 and A340 series airplanes, was published in the Federal Register on December 14, 1999 (64 FR 69674). The action proposed to continue to require repetitive operational tests of the override mechanism of the trimmable horizontal stabilizer (THS), and to require replacement of existing FCPC's with improved FCPC's, which would terminate the repetitive operational tests.

Comments

Interested persons have been afforded an opportunity to participate in the making of this amendment. No comments were submitted in response to the proposal or the FAA's determination of the cost to the public.

Conclusion

The FAA has determined that air safety and the public interest require the adoption of the rule as proposed.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it will require approximately 1 work hour to accomplish the operational test required by AD 98-01-15, and retained in this AD, at an average labor rate of $60 per work hour. Based on these figures, the cost impact of the operational test on U.S. operators is estimated to be $60 per airplane, per test cycle.

It will require approximately 2 work hours to accomplish the FCPC replacements (or 9 work hours if the FCPC on-board replacement modules have been replaced or reprogrammed), at an average labor rate of $60 per work hour. Required parts will be provided to the operator at no charge. Based on these figures, the cost impact of the FCPC replacements required by this AD on U.S. operators will be $120 or $540 per airplane.

Accomplishment of the FCPC replacements required by this AD will allow operators to terminate the repetitive operational tests required by AD 98-01-15, thereby offsetting the cost of the actions required by this AD.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10277 (63 FR 1909, January 13, 1998), and by adding a new airworthiness directive (AD), amendment 39-11648, to read as follows:

2000-06-08 Airbus Industrie: Amendment 39-11648. Docket 99-NM-185-AD. Supersedes AD 98-01-15, Amendment 39-10277.

Applicability: The following airplanes, certificated in any category, equipped with Aerospatiale Flight Control Primary Computer (FCPC), part number (P/N) LA2K01500190000:

1. Model A330-301, -321, -322, -341, and 342 series airplanes; excluding those on which Aerospatiale FCPC's, P/N LA2K01500210000 (Airbus Modification 45631), have been installed.

2. Model A340-211, -212, -213, -311, -312, and -313 series airplanes; excluding those on which Aerospatiale FCPC's, P/N LA2K01500210000 (Airbus Modification 45485), have been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent uncommanded movement of the trimmable horizontal stabilizer (THS), which could result in reduced controllability of the airplane, accomplish the following:

Restatement of Requirements of AD 98-01-15

(a) Within 500 flight hours after January 28, 1998 (the effective date of AD 98-01-15, amendment 39-10277), perform an operational test of the THS override mechanism to determine if the override system functions correctly, in accordance with paragraph (a)(1) or (a)(2) of this AD, as applicable. Repeat the operational test thereafter at intervals not to exceed 500 flight hours.

(1) For Model A330 series airplanes: Perform the test in accordance with Airbus Service Bulletin A330-27-3051, dated February 13, 1997; and, prior to further flight, repair any discrepancy in accordance with this service bulletin.

(2) For Model A340 series airplanes: Perform the test in accordance with Airbus Service Bulletin A340-27-4058, dated February 13, 1997; and, prior to further flight, repair any discrepancy in accordance with this service bulletin.

New Requirements of This AD

(b) Within 15 months after the effective date of this AD, accomplish the actions specified by either paragraph (b)(1) or paragraph (b)(2) of this AD, in accordance with Airbus Service Bulletin A330-27-3056, Revision 01, dated May 5, 1998 (for Model A330 series airplanes), or Service Bulletin A340-27-4061, Revision 02, dated May 5, 1998 (for Model A340 series airplanes); as applicable.

(1) Replace three Flight Control Primary Computers (FCPC) (2CE1, 2CE2, and 2CE3), P/N LA2K01500190000, with new FCPCs, P/N LA2K01500210000; in accordance with the applicable service bulletin. Such replacement constitutes terminating action for the requirements of paragraph (a) of this AD.

(2) Replace the on-board replaceable module (OBRM) of the three FCPCs (2CE1, 2CE2, and 2CE3), P/N LA2K01500190000, with OBRMs that have been modified by converting FCPC P/N's to LA2K01500210000 in accordance with the applicable service bulletin. Such replacement constitutes terminating action for the requirements of paragraph (a) of this AD.

Spares

(c) As of the effective date of this AD, no person shall install on any airplane an FCPC, P/N LA2K01500190000.

Alternative Methods of Compliance

(d) An alternative method of compliance or adjustment of the compliance time that provides an acceptable level of safety may be used if approved by the Manager, International Branch, ANM-116, FAA, Transport Airplane Directorate. Operators shall submit their requests through an appropriate FAA Principal Operations Inspector or Principal Avionics Inspector or Principal Maintenance Inspector, who may add comments and then send it to the Manager, International Branch, ANM-116.

Note 2: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Airbus Service Bulletin A330-27-3051, dated February 13, 1997; Airbus Service Bulletin A340-27-4058, dated February 13, 1997; Airbus Service Bulletin A330-27-3056, Revision 01, dated May 5, 1998; or Airbus Service Bulletin A340-27-4061, Revision 02, dated May 5, 1998; as applicable.

(1) The incorporation by reference of Airbus Service Bulletin A330-27-3056, Revision 01, dated May 5, 1998; and Airbus Service Bulletin A340-27-4061, Revision 02, dated May 5, 1998; is approved by the Director of the Federal Register in accordance with 5 U.S.C. 552(a) and 1 CFR part 51.

(2) The incorporation by reference of Airbus Service Bulletin A330-27-3051, dated February 13, 1997; and Airbus Service Bulletin A340-27-4058, dated February 13, 1997; was approved previously by the Director of the Federal Register as of January 28, 1998 (63 FR 1909, January 13, 1998).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directives 98-124-069(B) (for Model A330 series airplanes) and 98-126-085(B) (for Model A340 series airplanes), both dated March 11, 1998.

(g) This amendment becomes effective on May 4, 2000.

Issued in Renton, Washington, on March 20, 2000.
Donald L. Riggin,
Acting Manager, Transport Airplane Directorate, Aircraft Certification Service.

[FR Doc. 00-7334 Filed 3-29-00; 8:45 am]

BILLING CODE 4910-13-P